DEPARTMENT OF ENERGY

National Nuclear Security Administration

Withdrawal of Notice of Intent To Prepare an Environmental Impact Statement for the Proposed Wind Farm at the Nevada Test Site

AGENCY: National Nuclear Security Administration, Department of Energy.

ACTION: Notice of withdrawal.

SUMMARY: On July 25, 2001, the Department of Energy (DOE), National Nuclear Security Administration (NNSA) announced its intent to prepare an Environmental Impact Statement (EIS) in accordance with the National Environmental Policy Act (NEPA) for the proposed Wind Farm at the Nevada Test Site (NTS) in Nye County, Nevada. This EIS would evaluate the range of reasonable alternatives for a private enterprise project to construct, operate, and maintain a wind farm for production of electrical power. The action alternatives considered included a range of electrical generating capacities up to about 600 megawatts (MW) at various locations on the NTS. On July 5, 2002, the Administrator of the NNSA decided to cancel consideration of the wind farm proposal on the NTS due to potentially significant adverse impacts to national security missions of the U. S. Air Force at the Nevada Test and Training Range (NTTR), which has boundaries contiguous with the NTS on three sides. Therefore, further processing of the preliminary draft EIS, which was under review in NNSA, is no longer warranted. The notice of intent to prepare an EIS is withdrawn and the NEPA process is hereby terminated.

FOR FURTHER INFORMATION CONTACT: For information on the Wind Farm Project, please contact: Kevin D. Thornton, National Nuclear Security Administration Nevada Operations Office, P.O. Box 98518, Las Vegas, NV 89193-8518. Telephone (702) 295-1541; facsimile (702) 295-0625; electronic mail: thornton@nv.doe.gov.

For general information on the DOE NEPA process, please contact: Ms. Carol M. Borgstrom, Director, Office of NEPA Policy and Compliance, EH-42, Forrestal Building, U.S. Department of Energy, 1000 Independence Avenue, SW., Washington, DC 20585, telephone 202-586-4600, or leave a message at 1-800-472-2756.

SUPPLEMENTARY INFORMATION: Section 3161 of the National Defense Authorization Act for Fiscal Year 1993 encouraged DOE to minimize the social and economic impacts on workers and communities affected by downsizing of defense-related facilities. Among other things, section 3161 authorized DOE to encourage private sector economic development at its sites and facilities. In the record of decision for the “Final Environmental Impact Statement for the Nevada Test Site and Off-Site Locations in the State of Nevada” (DOE/EIS 0243), DOE decided, in part, to continue to support ongoing program operations and pursue diversification of uses to include non-defense and private use. The proposed wind farm would be a private sector enterprise located on the NTS.

DOE received a proposal from M&N Wind Power, Inc. and Siemens to construct, operate, and maintain a wind farm at the NTS. Full implementation of the proposal would have consisted of up to 545 wind turbines generating up to approximately 600 MW. The wind farm would encompass about 432 hectares (1069 acres) of land. NNSA Nevada Operations Office (NV) began preparation of an environmental assessment (EA) for the proposed project in November 2000. Following public review of the pre-approval draft EA, NNSA/NV determined that a finding of no significant impact could not be supported and that an EIS would be required. Preparation of the EIS began with publication of a notice of intent to prepare an EIS in the Federal Register on July 25, 2001. On July 3, 2002, the U.S. Air Force wrote a letter to the Manager of NNSA/NV which indicated, based on the results of a classified study, that the presence of large wind turbines on the NTS would be incompatible with the mission of the NTTR. The primary concern was for significant adverse impacts to certain NTTR missions within the ranges surrounding the NTS. Some of those mission capabilities are unique to the NTTR and impacts caused by wind turbines could adversely affect national security. During the same timeframe Air Force officials articulated these concerns in a classified briefing to the NNSA Administrator. Based on the concerns articulated by the Air Force, the Administrator of NNSA decided to cancel consideration of the wind farm proposal on the NTS. Therefore, further processing of the preliminary draft EIS, which was under review within NNSA, is no longer warranted. The notice of intent to prepare an EIS is withdrawn and the NEPA process is hereby terminated.

Issued in Washington, DC, this 20th day of December, 2002.
Linton Brooks,
Acting Administrator, National Nuclear Security Administration.

[FR Doc. 03-499 Filed 1-9-03; 8:45 am]

BILLING CODE 6450-01-P